DEPARTMENT OF TRANSPORTATION

Federal Motor Carrier Safety Administration

[Docket No. FMCSA-2007-28055]

Demonstration Project on NAFTA Trucking Provisions

AGENCY: Federal Motor Carrier Safety Administration (FMCSA).

ACTION: Notice of termination of demonstration project.

SUMMARY: The FMCSA announces termination of the demonstration project that allowed up to 100 Mexico-domiciled motor carriers to operate beyond the U.S. border commercial zones, and the same number of U.S. carriers to operate in Mexico. Section 136 of the Transportation, Housing and Urban Development, and Related Agencies Appropriations Act, 2009, of the Omnibus Appropriations Act, 2009, prohibits FMCSA from using appropriated funds to continue the demonstration project.

DATES: Effective Date: This notice is effective March 11, 2009.

FOR FURTHER INFORMATION CONTACT: Mr. Dom Spataro, Division Chief, Telephone (202) 366-2995; e-mail dominick.spataro@dot.gov, or Mr. Marcelo Perez, Transportation Specialist, Telephone 512-916-5440 extension 228, e-mail marcelo.perez@dot.gov of the North American Borders Division, FMCSA, 1200 New Jersey Avenue, SE., Washington, DC 20590.

SUPPLEMENTARY INFORMATION: Former Secretary of Transportation Mary E. Peters and Mexico's Secretary of Communications and Transportation Luis Téllez Kuenzler announced a demonstration project to implement certain trucking provisions of the North American Free Trade Agreement (NAFTA) in February 2007. The demonstration project was initiated on September 6, 2007, after the Department of Transportation (DOT) complied with a number of conditions imposed by section 6901 of the U.S. Troop Readiness, Veterans' Care, Katrina Recovery, and Iraq Accountability Act, 2007, Public Law 110-28, 121 Stat. 112, 183, May 25, 2007. Further details regarding DOT's compliance with these conditions may be found in Federal Register notices published on June 8 and August 17, 2007 (72 FR 31877 and 72 FR 46263, respectively). The demonstration project was initially expected to last one year (see 72 FR 23883, May 1, 2007). On August 6, 2008, FMCSA announced that the demonstration project was being extended from one year to the full three years allowed by statute (73 FR 45796).

On March 11, 2009, the President signed into law the Omnibus Appropriations Act, 2009, Public Law 111-8, division I, title I, 123 Stat. 524. Section 136 of the Transportation, Housing and Urban Development, and Related Agencies Appropriations Act, 2009 (Division I, title I of the Omnibus Appropriations Act, 2009) provides: “[N]one of the funds appropriated or otherwise made available under this Act may be used, directly or indirectly, to establish, implement, continue, promote, or in any way permit a cross-border motor carrier demonstration program to allow Mexican-domiciled motor carriers to operate beyond the commercial zones along the international border between the United States and Mexico, including continuing, in whole or in part, any such program that was initiated prior to the date of the enactment of this Act.”

In accordance with section 136, FMCSA has terminated the cross-border demonstration project that began on September 6, 2007. The Agency has ceased processing applications by prospective project participants and has taken other necessary steps to comply with the provision. Further, as a condition of participating in this project, Mexico-domiciled motor carriers were required to submit to FMCSA Form OCE-46 (Request for Revocation of Registration). This form requests that any registration issued by FMCSA pursuant to the cross-border demonstration project be revoked upon termination of the project. The Agency has processed these forms and revoked all registrations issued in connection with the cross-border demonstration project.

Issued on: March 13, 2009.
Rose A. McMurray,
Acting Deputy Administrator.

[FR Doc. E9-5956 Filed 3-17-09; 8:45 am]

BILLING CODE 4910-EX-P